DEPARTMENT OF COMMERCE

National Oceanic and Atmospheric Administration

[XRIN: 0648-XA98]

Pacific Fishery Management Council; Public Meetings

AGENCY: National Marine Fisheries Service (NMFS), National Oceanic and Atmospheric Administration (NOAA), Commerce.

ACTION: Notice of two public meetings.

SUMMARY: Two Groundfish Stock Assessment Review (STAR) Panels will hold work sessions which are open to the public. The first STAR Panel will review new assessments for darkblotched rockfish and cowcod. The second STAR Panel will review new assessments for canary rockfish and arrowtooth flounder.

DATES: The darkblotched rockfish and cowcod STAR Panel will be held beginning at 12:30 p.m., Monday, July 16, 2007. The meeting will continue on Tuesday, July 17, 2007 through Friday, July 20, 2007, beginning at 8:30 a.m. each day. The meetings will end at 5 p.m. each day, or as necessary to complete business.

The canary rockfish and arrowtooth flounder STAR Panel will be held beginning at 12:30 p.m. on Monday, July 30, 2007. The meeting will continue on Tuesday, July 31, 2007 through Friday, August 3, 2007, beginning at 8:30 a.m. each day. The meetings will end at 5 p.m. each day, or as necessary to complete business.

ADDRESSES: The two STAR Panel meetings will be held at the NOAA Western Regional Center (WRC), Building 9 Conference Room, 7600 Sand Point Way NE., Seattle, Washington, 98115.

Council address: Pacific Fishery Management Council, 7700 NE., Ambassador Place, Suite 101, Portland, OR 97220-1384.

FOR FURTHER INFORMATION CONTACT: Ms. Stacey Miller, Northwest Fisheries Science Center (NWFSC); telephone: (206) 437-5670; or Mr. John DeVore, Pacific Fishery Management Council; telephone: (503) 820-2280.

SUPPLEMENTARY INFORMATION: The purpose of the STAR Panel meetings is to review draft stock assessment documents and any other pertinent information, work with the Stock Assessment Teams to make necessary revisions, and produce STAR Panel reports for use by the Council family and other interested persons. No management actions will be decided by these STAR Panels. The STAR Panels' role will be development of recommendations and reports for consideration by the Council at its September meeting in Portland, OR.

Although non-emergency issues not contained in the meeting agenda may come before the STAR Panel participants for discussion, those issues may not be the subject of formal STAR Panel action during these meetings. STAR Panel action will be restricted to those issues specifically listed in this notice and any issues arising after publication of this notice that require emergency action under section 305(c) of the Magnuson-Stevens Fishery Conservation and Management Act, provided the public has been notified of the STAR Panel participants' intent to take final action to address the emergency.

Special Accommodations

These meetings are physically accessible to people with disabilities. Requests for sign language interpretation or other auxiliary aids should be directed to Ms. Carolyn Porter at (503) 820-2280 at least 5 days prior to the meeting date.

All WRC visitors will be required to show a valid picture ID and register with security every morning. A visitor's badge, which must be worn while at the NOAA Facility, will be issued to non-Federal employees participating in the meeting.

Dated: June 26, 2007.
Tracey L. Thompson,
Acting Director, Office of Sustainable Fisheries, National Marine Fisheries Service.

[FR Doc. E7-12637 Filed 6-28-07; 8:45 am]

BILLING CODE 3510-22-S